DEPARTMENT OF THE INTERIOR

National Park Service

[NPS-WASO-NAGPRA-NPS0028959; PPWOCRADN0-PCU00RP14.R50000]

Notice of Inventory Completion: Georgia Department of Natural Resources, Historic Preservation Division, Atlanta, GA

AGENCY: National Park Service, Interior.

ACTION: Notice.

SUMMARY: The Georgia Department of Natural Resources, Historic Preservation Division has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Georgia Department of Natural Resources, Historic Preservation Division. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Georgia Department of Natural Resources, Historic Preservation Division at the address in this notice by November 8, 2019.

ADDRESSES: Rachel Black, Georgia Department of Natural Resources, Historic Preservation Division, 2610 GA Highway 155 SW, Stockbridge, GA 30281, telephone (770) 389-7862, email Rachel.Black@dnr.ga.gov.

SUPPLEMENTARY INFORMATION: Notice is here given in accordance with the Native American Graves Protection and Repatriation Act (NAGPRA), 25 U.S.C. 3003, of the completion of an inventory of human remains and associated funerary objects under the control of the Georgia Department of Natural Resources, Historic Preservation Division, Atlanta, GA. The human remains and associated funerary objects were removed from site 9JK317, Jackson County, GA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Georgia Department of Natural Resources, Historic Preservation Division professional staff in consultation with representatives of the Cherokee Nation; Eastern Band of Cherokee Indians; The Muscogee (Creek) Nation; The Seminole Nation of Oklahoma; and the United Keetoowah Band of Cherokee Indians in Oklahoma (hereafter referred to as “The Consulted Tribes”).

History and Description of the Remains

In December 2018, human remains representing, at minimum, one individual were removed from site 9JK317 in Jackson County, GA. A series of 56 rock piles were documented during investigations from 2016 to 2018 conducted by Stratum Unlimited on private property located within the River Glen subdivision. During excavations, human remains were encountered at the base of Rock Pile 01. Work was halted, and Stratum Unlimited contacted the Georgia Department of Natural Resources, Historic Preservation Division. After consultation, no further work was conducted at 9JK317. In January 2019, the human remains and associated funerary objects were transferred to the Georgia Department of Natural Resources, Historic Preservation Division. The human remains consist of 61 small long bone fragments. No age or sex of individual could be identified. No known individuals were identified. The 33 associated funerary objects are three lithic bifaces, seven lithic debitage, 21 lithic flakes, one Wolfskin/Late Lamar ceramic sherd, and one sample of residual soil.

The presence of one Wolfskin/Late Lamar ceramic sherd and the geographic location of the burial within the historically documented territory of The Muscogee (Creek) Nation support a cultural affiliation with The Muscogee (Creek) Nation.

Determinations Made by the Georgia Department of Natural Resources, Historic Preservation Division

Officials of the Georgia Department of Natural Resources, Historic Preservation Division have determined that:

• Pursuant to 25 U.S.C. 3001(9), the human remains described in this notice represent the physical remains of one individual of Native American ancestry.

• Pursuant to 25 U.S.C. 3001(3)(A), the 33 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Indian Tribe or Native Hawaiian organization not identified in this notice that wish to request transfer of control of these human remains and associated funerary objects should submit a written request with information in support of the request to Rachel Black, Georgia Department of Natural Resources, Historic Preservation Division, 2610 GA Highway 155 SW, Stockbridge, GA 30281, telephone (770) 389-7862, email Rachel.Black@dnr.ga.gov, by November 8, 2019. After that date, if no additional requestors have come forward, transfer of control of the human remains and associated funerary objects to The Muscogee (Creek) Nation may proceed.

The Georgia Department of Natural Resources, Historic Preservation Division is responsible for notifying The Consulted Tribes that this notice has been published.

Dated: September 20, 2019.
Melanie O'Brien,
Manager, National NAGPRA Program.

[FR Doc. 2019-22051 Filed 10-8-19; 8:45 am]

BILLING CODE 4312-52-P